DEPARTMENT OF EDUCATION

[CFDA Number: 84.004D.]

Proposed Waiver and Extension of the Project Period for the Training and Advisory Services—Equity Assistance Centers Program

AGENCY: Office of Elementary and Secondary Education, Department of Education.

ACTION: Proposed waiver and extension of the project period.

SUMMARY: For 36-month projects funded in fiscal year (FY) 2011 under the Training and Advisory Services—Equity Assistance Centers (EACs) program, the Secretary proposes to waive the requirements in 34 CFR 75.261(c)(2), which prohibits the extension of project periods involving the obligation of additional Federal funds. The Secretary also proposes to extend the project period of these grants for up to an additional 24 months. This would enable the 10 current EAC grantees to continue to receive Federal funding annually for project periods through FY 2015 and possibly through FY 2016. Further, the waiver and extension, as proposed, would mean that we would not announce a new competition or make new awards in FY 2014. We intend to announce a new competition in either FY 2015 or FY 2016.

DATES: We must receive your comments on or before May 28, 2014.

ADDRESSES: Submit all comments on this proposed waiver and extension to Jenelle Leonard, U.S. Department of Education, 400 Maryland Avenue SW., Room 3W203, Washington, DC 20202-6400.

If you prefer to send your comments by email, use the following address: EACcomments@ed.gov. You must include the term “Proposed Waiver and Extension for EACs” in the subject line of your message.

FOR FURTHER INFORMATION CONTACT: Jenelle Leonard. Telephone: (202) 401-0039 or by email at: EACcomments@ed.gov.

If you use a telecommunications device for the deaf (TDD) or a text telephone (TTY), call the Federal Relay Service (FRS), toll free, at 1-800-877-8339.

SUPPLEMENTARY INFORMATION: Invitation to Comment: We invite you to submit comments regarding this proposed waiver and extension. We are particularly interested in receiving comments on the potential impact that this proposed project period waiver and extension might have on EACs and on potential applicants that would be eligible to apply for grant awards in any new EAC competition, should there be one.

Eligible applicants for the EACs program are public agencies (other than State educational agencies or school boards) or private, non-profit organizations.

During and after the comment period, you may inspect all public comments about this proposed waiver and extension in room 3W209, 400 Maryland Ave SW., Washington, DC, between the hours of 8:30 a.m. and 4:00 p.m., Washington, DC time, Monday through Friday of each week, except Federal holidays.

Assistance to Individuals with Disabilities in Reviewing the Rulemaking Record: On request we will provide an appropriate accommodation or auxiliary aid to an individual with a disability who needs assistance to review the comments or other documents in the public rulemaking record for this proposed waiver and extension. If you want to schedule an appointment for this type of aid, please contact one of the persons listed under FOR FURTHER INFORMATION CONTACT.

Background

The EACs program awards grants through cooperative agreements to eligible entities to operate 10 regional EACs. The EACs provide technical assistance and training at the request of school boards and other responsible governmental agencies on the preparation, adoption, and implementation of plans for the desegregation of public schools and the development of effective methods of coping with unique educational problems occasioned by desegregation. In this context, “desegregation” refers to equity—including segregation based on race, sex, and national origin. The EACs (formerly the Desegregation Assistance Centers) assist States, districts, and public schools in providing effective instruction to all students and specifically to those students for whom disparities in achievement persist.

The EACs are authorized by title IV of the Civil Rights Act of 1964 (42 U.S.C. 2000c) and operate under the implementing regulations at 34 CFR parts 270 and 272. These regulations identify, among other components of the program, the 10 regions to be served by the EACs, eligible recipients of EAC assistance, the criteria used to make a grant, how the amount of the grant is determined, and the conditions that must be met by the grant recipient.

The geographic regions served by the EACs are:

Region I: Connecticut, Maine, Massachusetts, New Hampshire, Rhode Island, and Vermont.

Region II: New Jersey, New York, Puerto Rico, and the Virgin Islands.

Region III: Delaware, District of Columbia, Maryland, Pennsylvania, Virginia, and West Virginia.

Region IV: Alabama, Florida, Georgia, Kentucky, Mississippi, North Carolina, South Carolina, and Tennessee.

Region V: Illinois, Indiana, Michigan, Minnesota, Ohio, and Wisconsin.

Region VI: Arkansas, Louisiana, New Mexico, Oklahoma, and Texas.

Region VII: Iowa, Kansas, Missouri, and Nebraska.

Region VIII: Colorado, Montana, North Dakota, South Dakota, Utah, and Wyoming.

Region IX: Arizona, California, and Nevada.

Region X: Alaska, American Samoa, Guam, Hawaii, Idaho, Northern Mariana Islands, Oregon, The Federated States of Micronesia, The Republic of the Marshall Islands, The Republic of Palau, and Washington.

On March 10, 2011, we published in the Federal Register a notice inviting applications for new awards under the FY 2011 EACs program competition (2011 EAC NIA) (76 FR 13137). In FY 2011, the Department made three-year awards to 10 EAC projects. The project period for these EACs is currently scheduled to end on September 30, 2014.

For those EACs, the Secretary now proposes to waive the requirements in 34 CFR 75.261(c)(2), which prohibits the extension of project periods involving the obligation of additional Federal funds, and proposes to extend the project period for the current EACs for up to 24 months. This would allow the 10 current EAC grantees to continue to receive Federal funding annually for project periods through FY 2015 and possibly through FY 2016.

We are proposing this waiver and project period extension because we have concluded it would not be in the public interest to incur the disruption in services associated with holding a new EAC competition in FY 2014. It would be more effective to maintain continuity of the high-quality services offered by these grantees to their clients rather than transition to new grantees every three years. These services include disseminating information on successful education practices and legal requirements related to nondiscrimination on the basis of race, sex, and national origin in educational programs; training designed to develop educators' skills in specific areas such as identification of race and sex bias in instructional materials; technical assistance in the identification and selection of appropriate educational programs to meet the needs of limited English proficient students; addressing disproportionality in schools among students and/or teachers; and instructing school officials on how to prevent sexual harassment and combat biases. In addition, issuing continuation awards, instead of holding a new competition, will also allow the current grantees to continue to serve as a resource for the Office for Civil Rights in working with school districts that have achieved unitary status. The grantees would continue to offer technical assistance to school districts, State education agencies, and others who seek to resolve civil rights conflicts and promote social justice and equity. Further, the current grantees would continue to provide resources and training in the areas of hate crimes, racial prejudice, and bullying.

We intend to fund the extended project period by using the FY 2014 and FY 2015 funds, depending on whether the grants are extended for one or two years, that Congress appropriates under the current statutory authority.

Under this proposed waiver and extension of the project period—

(1) Current grantees will be authorized to receive EAC continuation awards annually for up to two years.

(2) We will not announce a new EAC competition or make new EAC grant awards in FY 2014.

(3) During the extension period, any activities carried out must be consistent with, or be a logical extension of the scope, goals, and objectives of each grantee's approved application from the 2011 EAC competition.

(4) Each grantee who receives a continuation award must also continue to comply with the requirements established in the program regulations and the 2011 EAC NIA.

Furthermore, all requirements applicable to continuation awards for current EAC grantees and the requirements in 34 CFR 75.253 will apply to any continuation awards received by current EAC grantees.

If we announce this proposed waiver and extension as final, we will make decisions regarding annual continuation awards based on each grantee demonstrating substantial progress performing its approved grant activities, as evidenced through program narratives, budgets and budget narratives, and performance reports, and based on the regulations in 34 CFR 75.253.

Regulatory Flexibility Act Certification

The Secretary certifies that the proposed waiver and extension and the activities required to support additional years of funding would not have a significant economic impact on a substantial number of small entities. The entities that would be affected by this proposed waiver and extension are the 10 current EAC grantees receiving Federal funds and any other potential applicants.

The Secretary certifies that the proposed waiver and extension would not have a significant economic impact on these entities because the proposed waiver and extension impose minimal compliance costs to extend projects already in existence, and the activities required to support the additional years of funding would not impose additional regulatory burdens or require unnecessary Federal supervision.

Paperwork Reduction Act of 1995

This proposed waiver and extension does not contain any information collection requirements.

Intergovernmental Review: This program is subject to Executive Order 12372 and the regulations in 34 CFR Part 79. One of the objectives of the Executive order is to foster an intergovernmental partnership and strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature at this site, you can limit your search to documents published by the Department.

Program Authority: 42 U.S.C. 2000c—2000c-2, 2000c-5.

Dated: April 23, 2014.
Deborah S. Delisle,
Assistant Secretary for Elementary and Secondary Education.

[FR Doc. 2014-09603 Filed 4-25-14; 8:45 am]

BILLING CODE 4000-01-P